DEPARTMENT OF HOMELAND SECURITY

Bureau of Customs and Border Protection

19 CFR Part 101

[CBP Dec. 06-15; USCBP-2005-0001]

Closing of the Port of Noyes, Minnesota, and Extension of the Limits of the Port of Pembina, North Dakota

AGENCY: Bureau of Customs and Border Protection; Department of Homeland Security.

ACTION: Final rule.

SUMMARY: This rule amends the Department of Homeland Security regulations pertaining to the field organization of the Bureau of Customs and Border Protection by closing the port of entry of Noyes, Minnesota, and extending the limits of the port of entry of Pembina, North Dakota, to include the rail facilities located at Noyes. The closure and extension are the result of the closure by the Canadian Customs and Revenue Agency of the Port of Emerson, Manitoba, Canada, which is located north of the Port of Noyes, and the close proximity of the Port of Noyes to the Port of Pembina.

DATES: Effective July 10, 2006.

FOR FURTHER INFORMATION CONTACT: Dennis Dore, Office of Field Operations, 202-344-2776.

SUPPLEMENTARY INFORMATION:

Background

On August 12, 2005, the Bureau of Customs and Border Protection (CBP) published a Notice of Proposed Rulemaking (NPRM) in the Federal Register (70 FR 47151) proposing to close the Port of Noyes, Minnesota, and extend the limits of the Port of Pembina, North Dakota, to include the rail facilities located at Noyes. The reason for the proposed rulemaking was that on June 8, 2003, the Canadian Customs and Revenue Agency closed the East Port of Emerson, Manitoba, Canada, which is located north of the Port of Noyes. The factors influencing their decision to close the Port of Emerson included the age of the facility, the close proximity of a port at Emerson West, declining workload, and resource considerations. The Port of Noyes, which is located two miles from the CBP Port of Pembina, processes on average three trucks, 50 vehicles, 154 passengers and three trains per day. CBP did not receive any comments on the NPRM.

As part of a continuing program to utilize more efficiently its personnel, facilities, and resources, and to provide better service to carriers, importers, and the public, CBP is closing the Port of Noyes and extending the limits of the Port of Pembina as proposed. CBP is extending the limits of the Port of Pembina to encompass the railroad yard located at Noyes, Minnesota, owned by the Canadian Pacific Railway and the Burlington Northern Santa Fe Railway. The Port of Pembina will assume responsibility for processing trains as they arrive at Noyes. However, other traffic must utilize the border crossing within the City of Pembina and will no longer be processed at Noyes. The office facility at Noyes will continue to be used to support the needs of several Border Patrol agents and Immigration and Customs Enforcement (ICE) agents. Security gates and surveillance cameras have also been installed at the Port of Noyes to ensure continued remote monitoring of that location by the Port of Pembina.

New Port Limits of the Port of Pembina, North Dakota

Accordingly, CBP is amending 19 CFR 101.3(b)(1) to reflect that the new limits of the port of entry of Pembina, North Dakota, are as follows:

City of Pembina, North Dakota, and the rail facilities located at Noyes, Minnesota.

Authority

These changes are being made pursuant to 5 U.S.C. 301 and 19 U.S.C. 2, 66 and 1624, and the Homeland Security Act of 2002, Pub. L. 107-296 (November 25, 2002).

Congressional Notification

On September 15, 2003, the Commissioner of CBP notified Congress of CBP's intention to close the Port of Noyes, Minnesota, fulfilling the congressional notification requirements of 19 U.S.C. 2075(g)(2) and section 417 of the Homeland Security Act (6 U.S.C. 217).

The Regulatory Flexibility Act and Executive Order 12866

With DHS approval, CBP establishes, expands and consolidates CBP ports of entry throughout the United States to accommodate the volume of CBP-related activity in various parts of the country. This regulatory action will not have a significant economic impact on a substantial number of small entities. Accordingly, it is certified that this document is not subject to the Regulatory Flexibility Act (5 U.S.C. 601 et seq.).

In addition, DHS and the Office of Management and Budget have determined that this final rule does not constitute a significant regulatory action as defined under Executive Order 12866.

Signing Authority

The signing authority for this document falls under 19 CFR 0.2(a). Accordingly, the final rule is signed by the Secretary of Homeland Security.

List of Subjects in 19 CFR Part 101

Customs ports of entry, Exports, Imports, Organization and functions (Government agencies).

Amendment to the Regulations

For the reasons set forth above, 19 CFR part 101 is amended as set forth below.

1. The general authority citation for part 101 continues to read and the specific authority citation for § 101.3 is revised to read as follows:

Authority: 5 U.S.C. 301; 19 U.S.C. 2, 66, 1202 (General Note 3(i), Harmonized Tariff Schedule of the United States), 1623, 1624, 1646a.

Sections 101.3 and 101.4 also issued under 19 U.S.C. 1 and 58b;

* * * * *

§ 101.3 [Amended]

2. Amend § 101.3(b)(1) as follows:

a. Under the state of Minnesota, remove the entry “Noyes” from the “Ports of entry” column and the corresponding entry “E.O. 5835, Apr. 13, 1932.” from the “Limits of port” column; and

b. Under the state of North Dakota, adjacent to Pembina, add in the “Limits of port” column the citation “CBP Dec. 06-15”.

Dated: June 2, 2006.
Michael Chertoff,
Secretary.

[FR Doc. E6-8960 Filed 6-7-06; 8:45 am]

BILLING CODE 9111-14-P